DEPARTMENT OF TRANSPORTATION

Pipeline and Hazardous Materials Safety Administration

[Docket No. PHMSA-2004-19857]

Pipeline Safety: Public Meeting on Operator Qualifications

AGENCY: Pipeline and Hazardous Materials Safety Administration (PHMSA), Department of Transportation (DOT).

ACTION: Notice of availability of materials from public meeting; request for comments.

SUMMARY: This notice announces the availability of materials, including a revised concept paper, presented at the public meeting on operator qualification programs on December 15, 2005. PHMSA is preparing a report to Congress on the status and results of these programs to ensure the qualifications of individuals performing safety tasks on pipelines. Participants at the meeting discussed progress on operator qualification programs to help PHMSA prepare the report to Congress. Participants also discussed the potential for strengthening operator qualification programs. PHMSA requests public comment on these matters.

DATES: Submit comments on the progress on operator qualification programs by January 20, 2006. Submit comments on the potential for strengthening operator qualification programs by February 10, 2006.

ADDRESSES: You may file written comments by mail or deliver them to the Dockets Facility, U.S. Department of Transportation, Room PL-401, 400 Seventh Street, SW., Washington, DC 20590-0001. The Dockets Facility is open from 9 a.m. to 5 p.m., Monday through Friday, except Federal holidays. You also may file written comments to the docket electronically by logging onto the following Internet Web address: http://dms.dot.gov. Click on “Help & Information” for instructions on how to file a document electronically. All written comments should reference docket number PHMSA-2004-19857. Anyone who would like confirmation of mailed comments must include a self-addressed stamped postcard.

Privacy Act Statement: Anyone may search the electronic form of all comments received for any of our dockets. You may review DOT's complete Privacy Act Statement in the Federal Register published on April 11, 2000 (Volume 65, Number 70; Pages 19477-78) or you may visit http://dms.dot.gov.

FOR FURTHER INFORMATION CONTACT: Barbara Betsock at (202) 366-4361 or Barbara.Betsock@dot.gov.

SUPPLEMENTARY INFORMATION: The Pipeline Safety Improvement Act of 2002 directs PHMSA to file a report to Congress on the status and results of the operator qualification programs by December 17, 2006. To complete this report on time, PHMSA requests comments on the progress of these programs.

In addition, PHMSA is considering additional action to strengthen operator qualification programs. PHMSA announced the December 15, 2005, public meeting in a Federal Register notice on October 28, 2005 (70 FR 62161). Before the meeting, PHMSA posted a concept paper on its Web page (http://ops.dot.gov). Based on discussions during the public meeting and during a meeting of PHMSA's pipeline safety advisory committees on December 13, 2005, PHMSA posted a revised concept paper. PHMSA requests comments on the approach to strengthening operator qualification programs outlined in this revised concept paper.

Issued in Washington, DC, on December 29, 2005.
Stacey L. Gerard,
Associate Administrator for Pipeline Safety.

[FR Doc. 05-24703 Filed 12-30-05; 11:24 am]

BILLING CODE 4910-60-P